DEPARTMENT OF VETERANS AFFAIRS

Veterans' Advisory Committee on Rehabilitation, Notice of Meeting

The Department of Veterans Affairs (VA) gives notice under the Federal Advisory Committee Act, that a meeting of the Veterans' Advisory Committee on Rehabilitation (VACOR) will be held on Thursday, December 5 and Friday, December 6, 2019, at 1800 G Street NW, Room 501K, Washington, DC 20006.

The meeting sessions are open to the public and are as follows:

• December 5, 2019 10:30 a.m. to 4:00 p.m.

• December 6, 2019 8:30 a.m. to 2:00 p.m.

The purpose of the Committee is to provide advice to the Secretary of VA on the rehabilitation needs of Veterans with disabilities and on the administration of VA's rehabilitation programs.

On December 5, 2019, Committee members will welcome new members to the Committee and provide them with briefings on programs designed to enhance the rehabilitative potential of Veterans with disabilities to include a presentation on Vocational Rehabilitation and Employment's modernization initiatives.

On December 6, 2019, Committee members will discuss previous recommendations that were included in the Committee's annual reports and the development of a cross-collaborative subcommittee with the Homeless Veterans Advisory Committee.

Although no time will be allocated for receiving oral comments from the public, members of the public may submit written statements for review by the Committee to Latrese Arnold, Designated Federal Officer, Veterans Benefits Administration (28), 810 Vermont Avenue NW, Washington, DC 20420, or via email at Latrese.Arnold@va.gov. In the communication, writers must identify themselves and state the organization, association or person(s) they represent. Because the meeting is being held in a government building, a photo I.D. must be presented at the Guard's Desk as part of the clearance process. Due to an increase in security protocols, and in order to prevent delays in clearance processing, you should allow an additional 30 minutes before the meeting begins. Any member of the public who wishes to attend the meeting should RSVP to Latrese Arnold at (202) 461-9773 no later than close of business, December 2, 2019, at the above phone number or email address.

Dated: November 13, 2019.
LaTonya L. Small,
Federal Advisory Committee Management Officer.

[FR Doc. 2019-24970 Filed 11-18-19; 8:45 am]

BILLING CODE 8320-01-P